NUCLEAR REGULATORY COMMISSION

Sunshine Act; Notice of Meeting

AGENCY HOLDING THE MEETING: Nuclear Regulatory Commission.

DATES: Weeks of October 20, 27, November 3, 10, 17, 24, 2003.

PLACE: Commissioners' Conference Room, 11555 Rockville Pike, Rockville, Maryland.

STATUS: Public and Closed.

Matters To Be Considered:

Week of October 20, 2003

Thursday, October 23, 2003

10 a.m. Meeting with Advisory Committee on Nuclear Waste (ACNW) (Public Meeting) (Contact: John Larkins, 301-415-7360)

This meeting will be Webcast live at the Web address: http://www.nrc.gov.

Week of October 27, 2003—Tentative

Wednesday, October 29, 2003

9:30 a.m. Discussion of Security Issues (Closed—Ex. 1).

Week of November 3, 2003—Tentative

There are no meetings scheduled for the Week of November 3, 2003.

Week of November 10, 2003—Tentative

There are no meetings scheduled for the Week of November 10, 2003.

Week of November 17, 2003—Tentative

Thursday, November 20, 2003

12:45 p.m. Briefing on Threat Environment Assessment (Closed—Ex. 1).

Week of November 24, 2003—Tentative

There are no meetings scheduled for the Week of November 24, 2003.

* The schedule for Commission meetings is subject to change on short notice. To verify the status of meetings call (recording)—(301) 415-1292. Contact person for more information: David Louis Bamberoni (301) 415-1651.

* * * * *

Additional Information: By a vote of 3-0 on October 14, the Commission determined pursuant to U.S.C. 552b(e) and § 9.107(a) of the Commission's rules that “Affirmation of Pacific Gas & Electric Co. (Diablo Canyon Power Plant Independent Spent Fuel Storage Installation); petitions for review of LBP-02-23 and LBP-03-11” be held on October 15, and on less than one week's notice to the public.

* * * * *

The NRC Commission Meeting Schedule can be found on the Internet at: http://www.nrc.gov/what-we-do/policy-making/schedule.html

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: October 16, 2003.
D.L. Gamberoni,
Technical Coordinator, Office of the Secretary.

[FR Doc. 03-26630 Filed 10-17-03; 10:32 am]

BILLING CODE 7590-01-M